SOCIAL SECURITY ADMINISTRATION

Agency Information Collection Activities: Proposed Request, Comment Request and Notice of OMB Approval of an Information Collection Contained in a Regulation

The Social Security Administration (SSA) publishes a list of information collection packages that will require clearance by the Office of Management and Budget (OMB) in compliance with P.L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology. In addition, SSA is announcing OMB's approval of an information collection contained in regulation.

Written comments and recommendations regarding the information collection(s) should be submitted to the OMB Desk Officer and the SSA Reports Clearance Officer at the following addresses:

(OMB), Office of Management and Budget, Attn: Desk Officer for SSA, New Executive Office Building, Room 10230, 725 17th St., NW, Washington, DC 20503

(SSA), Social Security Administration, DCFAM, Attn: Frederick W. Brickenkamp, 1-A-21 Operations Bldg., 6401 Security Blvd., Baltimore, MD 21235-6401

I. The information collections listed below will be submitted to OMB within 60 days from the date of this notice. Therefore, your comments should be submitted to SSA within 60 days from the date of this publication. You can obtain copies of the collection instruments by calling the SSA Reports Clearance Officer at 410-965-4145, or by writing to him at the address listed above.

1. Waiver of Your Right to Personal Appearance before an Administrative Law Judge—0960-NEW. Each claimant has a statutory right to appear in person (or through a representative) and present evidence about his/her claim at a hearing before an Administrative Law Judge (ALJ). If a claimant wishes to waive his/her statutory right to appear before an ALJ, he/she must complete a written request. The claimant may use Form HA-4608 for this request. The information collected is used to document an individual's claim to show that an oral hearing is not preferred in the appellate process. The respondents are applicants for Social Security and Supplemental Security Income benefits who request a hearing.

Number of Respondents: 12,000.

Frequency of Response: 1.

Average Burden Per Response: 2 minutes.

Estimated Annual Burden: 400 hours.

2. Request for Hearing—0960-0269. The information collected on Form HA-501 is used by the Social Security Administration (SSA) to process a request for hearing on an unfavorable determination of entitlement or eligibility to benefits administered by SSA. The respondents are individuals whose claims for benefits are denied and who request a hearing on the denial.

Number of Respondents: 553,400.

Frequency of Response: 1.

Average Burden Per Response: 10 minutes.

Estimated Annual Burden: 92,233 hours.

3. Student's Statement Regarding Resumption of School Attendance— 0960-0143. The information on Form SSA-1386 is used by SSA to verify full-time attendance at educational institutions and to determine eligibility for student benefits. The respondents are student beneficiaries currently receiving SSA benefits.

Number of Respondents: 133,000.

Frequency of Response: 1.

Average Burden Per Response: 6 minutes.

Estimated Annual Burden: 13,300 hours.

4. Subpoena—Disability Hearing—0960-0428. The information on Form SSA-1272-U4 is used by SSA to subpoena evidence or testimony needed at disability hearings. The respondents are comprised of officers from Federal and State DDSs.

Number of Respondents: 36.

Frequency of Response: 1.

Average Burden Per Response: 30 minutes.

Estimated Average Burden: 18 hours.

5. Notification of Projected Completion Date—0960-0429. Form SSA-891 is used by SSA and State Disability Determination Services (DDS) to inform disability hearing units whenever a hearing case will not be completed and forwarded to the hearing unit as expected. This information is necessary to enable the hearing units to schedule hearings as promptly and efficiently as possible. The respondents are State DDS and SSA components that make disability determinations for the Agency.

Number of Respondents: 100.

Frequency of Response: 1.

Average Burden Per Response: 5 minutes.

Estimated Annual Burden: 8 hours.

6. Real Property Current Market Value Estimate—0960-0471. This form is used to obtain current market value estimates of real property owned by applicants for, or beneficiaries of, Supplemental Security Income (SSI) benefits (or a person whose resources are deemed to such an individual). The value of an individual's resources, including non-home real property is one of the eligibility requirements for SSI benefits. The respondents are individuals with knowledge of local real property values.

Number of Respondents: 5,438.

Frequency of Response: 1.

Average Burden Per Response: 20 minutes.

Estimated Annual Burden: 1,813 hours.

7. Information about Joint Checking/Savings Account—0960-0461. Form SSA-2574 is used to collect information from the claimant and the other account holder(s) when a Supplemental Security Income (SSI) applicant/recipient objects to the assumption that he/she owns all or part of the funds in a joint account bearing his or her name. These statements of ownership are required to determine whether the account is a resource of the SSI claimant. The respondents are applicants for and recipients of SSI payments and individuals who are joint owners of financial accounts with SSI applicants.

Number of Respondents: 200,000.

Frequency of Response: 1.

Average Burden Per Response: 7 minutes.

Estimated Annual Burden: 23,333 hours.

8. Response to Notice of Revised Determination—0960-0347. Form SSA-765 is used by claimants to request a disability hearing and/or to submit additional evidence before a revised reconsideration determination is issued. The respondents are claimants who file for a disability hearing in response to a notice of revised determination for disability insurance and/or SSI under titles II (Old-Age, Survivors and Disability Insurance) and XVI (Supplemental Security Income).

Number of Respondents: 1,925.

Frequency of Response: 1.

Average Burden Per Response: 30 minutes.

Estimated Annual Burden: 963 hours.

9. Function Report, Child (Birth to 1st (form SSA-3375), Age 1 to 3rd (form SSA-3376), Age 3 to 6th (form SSA-3377), Age 6 to 12th (form SSA-3378), Age 12 to 18th (form SSA-3379) Birthday)—0960-0542. State Agency adjudicative teams use the information gathered on the appropriate version of these forms, in connection with other medical function evidence, to form a complete picture of the child's ability to function. This information assists with determining whether a child is disabled, or each case in which disability cannot be found on medical grounds alone. The respondents are applicants for Title XVI childhood disability benefits, and child caregivers.

Number of Respondents: 750,000.

Frequency of Response: 1.

Average Burden Per Response: 20 minutes.

Estimated Annual Burden: 250,000 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Application for Retirement Insurance Benefits—0960-0007. In order to receive Social Security retirement insurance benefits, an individual must file an application with the Social Security Administration (SSA). The SSA-1 is one application that the Commissioner of Social Security prescribes to meet this requirement. The information that SSA collects will be used to determine entitlement to retirement benefits. The respondents are individuals who choose apply for Social Security retirement insurance.

Number of Respondents: 1,460,692.

Frequency of Response: 1.

Average Burden Per Response: 10.5 minutes.

Estimated Annual Burden: 255,621 hours.

2. Notice Regarding Substitution of Party Upon Death of Claimant—0960-0288. When a claimant for Social Security or Supplemental Security Income benefits dies while a request for a hearing is pending, the hearing will be dismissed unless an eligible individual makes a written request to SSA showing that he or she would be adversely affected by the dismissal of the deceased's claim. An individual may satisfy this requirement by completing an HA-539. SSA uses the information collected to document the individual's request to be made a substitute party for a deceased claimant, and to make a decision on whom, if anyone, should become a substitute party for the deceased. The respondents are individuals requesting hearings on behalf of deceased claimants for Social Security benefits.

Number of Respondents: 10,548.

Frequency of Response: 1.

Average Burden Per Response: 5 minutes.

Estimated Annual Burden: 879 hours.

3. Report by Former Representative Payee—0960-0112. When a State mental institution or agency terminates its representative payee services, SSA requires a closeout report on funds held on behalf of Social Security beneficiaries. SSA uses the information, which is collected on form SSA-625, to determine the proper disposition of any conserved funds held by the representative payee. The respondents are State mental institutions or agencies that served as representative payees for Social Security beneficiaries.

Number of Respondents: 8,000.

Frequency of Response: 1.

Average Burden Per Response: 15 minutes.

Estimated Annual Burden: 2,000.

4. State Agency Report of Obligations for SSA Disability Programs and Addendum (form SSA-4513), Time Report of Personnel Services for Disability Determination Services (form SSA-4514), and State Agency Schedule of Equipment Purchased for SSA Disability Programs (form SSA-871)—0960-0421. The Social Security Administration uses the information collected on forms SSA-4513 and 4514 to conduct detailed analysis and evaluation of the costs incurred by the State Disability Determination Services (DDS) in making disability determinations for SSA. The data is also used to determine funding levels for each DDS. SSA uses the information collected on form SSA-871 to budget and account for expenditures of funds for equipment purchases by the State DDS that administer the disability determination program. The respondents are DDSs that have the responsibility for making disability determinations for SSA.

| Respondents | Frequency of response | Average burden per response (minutes) | Estimated annual burden (hours)
SSA-4513 | 54 | 4 | 90 | 324
SSA-4514 | 54 | 4 | 90 | 324
SSA-871 | 54 | 4 | 30 | 108
Total burden |  |  |  | 756

5. Request for Earning and Benefit Estimate Statement—0960-0466. Form SSA-7004 is used by members of the public to request information about their Social Security earning records and to get an estimate of their potential benefits. SSA provides information, in response to the request, from the individual's personal Social Security record. The respondents are Social Security numberholders who have covered earnings on record.

Number of Respondents: 3,000,000.

Frequency of Response: 1.

Average Burden Per Response: 5 minutes.

Estimated Annual Burden: 250,000 hours.

6. Certificate of Support—0960-0001. The information collected by form SSA-760-F4 is used to determine whether the deceased worker provided one-half support required for entitlement to parent's or spouse's benefits. The information will also be used to determine whether the Government pension offset would apply to the applicant's benefit payments. The respondents are parents of deceased workers or spouses who may be subject to Government pension offset.

Number of Respondents: 18,000.

Frequency of Response: 1.

Average Burden Per Response: 15 minutes.

Estimated Annual Burden: 4,500 hours.

7. Request for Waiver of Overpayment Recovery or Change in Repayment Notice—0960-0037. Form SSA-632 collects information on the circumstances surrounding overpayment of Social Security Benefits to recipients. SSA uses the information to determine whether recovery of an overpayment amount can be waived or must be repaid and, if repaid, how recovery will be made. The respondents are recipients of Social Security, Medicare, Black Lung or Supplemental Security Income overpayments.

Number of Respondents: 500,000.

Frequency of Response: 1.

Average Burden Per Response: 120 minutes.

Estimated Annual Burden: 1,000,000 hours.

8. Reconsideration Report for Disability Cessation—0960-0350. Form SSA-782-BK is used by claimants and SSA field offices to document new developments on the claimant's condition (as perceived by the claimant), since the prior continuing disability interview was conducted. The form is also used by the SSA interviewer to provide his/her observations of the claimant. The respondents are claimants for Old-Age, Survivors and Disability Insurance and Supplemental Security Income, who file a Request for Reconsideration—Disability Cessation.

Number of Respondents: 100,000.

Frequency of Response: 1.

Average Burden Per Response: 30 minutes.

Estimated Annual Burden: 50,000 hours.

III. OMB has approved an information collection published as a final rule at 65 FR 66561. The OMB control number for this information collection is 0960-0501 and the expiration date is February 29, 2004.

Dated: March 15, 2001.
Frederick W. Brickenkamp,
Reports Clearance Officer.

[FR Doc. 01-6939 Filed 3-23-01; 8:45 am]

BILLING CODE 4191-02-P